SURFACE TRANSPORTATION BOARD

[Docket No. FD 36582]

Columbia Shipyards Railroad LLC—Change in Operator Exemption—Portland Vancouver Junction Railroad, LLC, Clark County, Wash.

Columbia Shipyards Railroad LLC (CSBP), a noncarrier, has filed a verified notice of exemption under 49 CFR 1150.31 to permit CSBP to acquire from its corporate affiliate, Portland Vancouver Junction Railroad, LLC (PVJR),¹ a Class III rail carrier, the rights and obligations to perform common carrier switching service over approximately three miles of tracks owned by the Columbia Business Center, a non-carrier. The tracks, which include no mileposts, are located within a business park in Clark County, Wash., and interconnect with the lines of BNSF Railway Company.

¹ The verified notice was initially submitted as a request for an operation exemption. On February 24, 2022, CSBP filed a supplement clarifying that the transaction involves a change in operators. Accordingly, the docket has been recaptioned as a change in operator exemption.

According to the verified notice, Columbia Business Center, pursuant to an agreement signed by its agent, FC Services, LLC (FC Services), also a non-carrier, entered into an agreement with PVJR to provide switching services as a common carrier in 2017.² PVJR also operates over a 33-mile line owned by Clark County, Wash. PVJR's owner subsequently concluded that the establishment of a new corporation would be in the best interests of the corporate family as it would draw a distinction between the generalized freight rail operations conducted by PVJR and the common carrier railroad switching services it performed on behalf of Columbia Business Center.

² See Portland Vancouver Junction R.R.—Operation Exemption—Rail Lines of Columbia Bus. Ctr., Clark Cnty., Wash., FD 36134 (STB served July 28, 2017).

This transaction is related to a concurrently filed verified notice of exemption in Eric Temple—Continuance in Control—Central Washington Railroad, Columbia Basin Railroad, Portland Vancouver Junction Railroad, and Columbia Shipyards Railroad, Docket No. FD 36583, in which Eric Temple seeks to continue in control of CSBP upon CSBP's becoming a Class III rail carrier.

CSBP certifies that the transaction involves no provision or agreement that would limit future interchange with a third-party connecting carrier. CSBP also certifies that its projected annual revenues as a result of this transaction will not result in its becoming a Class II or Class I rail carrier and that its projected annual revenues will not exceed $5 million.

Under 49 CFR 1150.32(b), a change in operator requires that notice be given to shippers. By supplement filed February 24, 2022, CSBP certifies that notice of the change in operator was served on all shippers affected by this transaction.³

³ By letter filed February 21, 2022, CSBP also submitted a letter from FC Services, stating that it consents to the transfer of operations from PVJR to CSBP.

The transaction may be consummated on or after March 26, 2022, the effective date of the exemption (30 days after the verified notice was filed).⁴

⁴ CSBP's supplement, indicating that it was seeking a change in operator exemption and that all shippers had been notified, was filed on February 24, 2022, which therefore is deemed the filing date of the verified notice.

If the verified notice contains false or misleading information, the exemption is void ab initio. Petitions to revoke the exemption under 49 U.S.C. 10502(d) may be filed at any time. The filing of a petition to revoke will not automatically stay the effectiveness of the exemption. Petitions for stay must be filed no later than March 18, 2022 (at least seven days before the exemption becomes effective).

All pleadings, referring to Docket No. FD 36582, should be filed with the Surface Transportation Board via e-filing on the Board's website. In addition, a copy of each pleading must be served on CSBP's representative, Richard H. Streeter, Law Office of Richard H. Streeter, 5255 Partridge Lane NW, Washington, DC 20016.

According to CSBP, this action is categorically excluded from environmental review under 49 CFR 1105.6(c) and from historic preservation reporting requirements under 49 CFR 1105.8(b)(1).

Board decisions and notices are available at www.stb.gov.

Decided: February 28, 2022.
By the Board, Scott M. Zimmerman, Acting Director, Office of Proceedings.
Tammy Lowery,
Clearance Clerk.

[FR Doc. 2022-04632 Filed 3-3-22; 8:45 am]

BILLING CODE 4915-01-P